DEPARTMENT OF COMMERCE

Bureau of Industry and Security

15 CFR Part 774

The Commerce Control List

CFR Correction

In Title 15 of the Code of Federal Regulations, Parts 300 to 799, revised as of January 1, 2012, in supplement no. 1 to part 774, make the following corrections:

1. In Category 3:

A. On page 766, in 3A001, remove the second entry for c.1.b.1.

B. On page 768, in 3A002, remove the second paragraph “CIV”.

C. On page 782, in 3C001, under “Items:” remove “a. Silicon;”.

2. In Category 4:

A. On page 790, in 4A994, in the heading correct “therefore” to read “therefor”.

B. On page 793, in 4E993, remove paragraph c.

3. In Category 5:

A. On page 794, in part I, in 5A001, add “or antennae” after “Unit: Equipment”.

B. On page 798, in part I, in 5A991, remove the note following paragraph c.2.

C. On page 803, in part II, in 5A003, in the table for “License Requirements”, remove the entry for EI and place it below the table as an indented paragraph.

D. On page 805, in part II, above 5D002, add the headings “C. Materials—[Reserved]” and “D. Software”.

E. On page 805, in part II, in 5D002, in the table for “License Requirements”, remove the entry for EI and place it below the table as an indented paragraph.

F. On page 806, in part II, in 5E002, in the License Requirement Note, remove “5D002.a or 5D002.c” and insert “5D002” in its place.

G. On page 806, in part II, in 5E002, after the License Requirement Note, remove “Refer to § 742.15 of the EAR”.

H. On page 807, in part II, in 5E002, after “Related Controls” and before “Items”, add “Related Definitions: N/A”.

[FR Doc. 2012-18365 Filed 7-25-12; 8:45 am]

BILLING CODE 1505-01-D